COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add a product and services to the Procurement List that will be furnished by nonprofit agencies employing persons who are blind or have other severe disabilities.

Comments Must Be Received On or Before: 4/16/2012.

ADDRESSES: Committee for Purchase From People Who Are Blind or Severely Disabled, Jefferson Plaza 2, Suite 10800, 1421 Jefferson Davis Highway, Arlington, Virginia 22202-3259.

For Further Information or to Submit Comments Contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. Chapter 85) in connection with the product and services proposed for addition to the Procurement List.

Comments on this certification are invited. Commenters should identify the statement(s) underlying the certification on which they are providing additional information.

End of Certification

The following product and services are proposed for addition to Procurement List for production by the nonprofit agencies listed:

Product

NSN: 7510-00-079-7905—Package Sealing Tape, Tan.

NPA: Cincinnati Association for the Blind, Cincinnati, OH.

Contracting Activity: General Services Administration, New York, NY.

Coverage: B-List for the Broad Government Requirement as aggregated by the General Services Administration.

Services

Service Type/Locations: Facilities Maintenance Services,

Defense Information Systems Agency, JITC, 2001 Brainard Rd., Building 57305, Fort Huachuca, AZ.

Defense Information Systems Agency, JITC, 3341 Strauss Avenue, Building 900, Indian Head, MD.

Defense Information Systems Agency JITC, 4465 Indian Head Highway, Ely Building, Indian Head, MD.

Defense Information Systems Agency JITC, 6910 Cooper Avenue, Fort Meade, MD.

NPAs: Beacon Group SW., Inc., Tucson, AZ (Prime Contractor); The Centers for Habilitation/TCH, Tempe, AZ (Subcontractor); Didlake, Inc., Manassas, VA (Subcontractor).

Contracting Activity: Defense Information Systems Agency (DISA), Ditco-Ft Huachuca PL65, Fort Huachuca, AZ.

Service Type/Location: Fleet Service, Naval Research Laboratory, 4555 Overlook Ave. SW., Washington, DC.

NPA: Skookum Educational Programs, Bremerton, WA.

Contracting Activity: Dept of the Navy, Naval Research Laboratory, Washington, DC.

Patricia Briscoe,
Deputy Director, Business Operations (Pricing and Information Management).

[FR Doc. 2012-6441 Filed 3-15-12; 8:45 am]

BILLING CODE 6353-01-P